DEPARTMENT OF THE INTERIOR

National Park Service

[2253-665]

Notice of Inventory Completion: Western Michigan University, Anthropology Department, Kalamazoo, MI

AGENCY: National Park Service, Interior.

ACTION: Notice.

SUMMARY: Western Michigan University, Anthropology Department, has completed an inventory of human remains and associated funerary objects, in consultation with the appropriate Indian tribes, and has determined that there is no cultural affiliation between the human remains and associated funerary objects and any present-day tribe. Representatives of any Indian tribe that believes itself to be culturally affiliated with the human remains and associated funerary objects may contact the Western Michigan University, Anthropology Department. Disposition of the human remains and associated funerary objects to the tribe stated below may occur if no additional requestors come forward.

DATES: Representatives of any Indian tribe that believes it has a cultural affiliation with the human remains and associated funerary objects should contact the Western Michigan University, Department of Anthropology, at the address below by June 13, 2011.

ADDRESSES: LouAnn Wurst, Department of Anthropology, Western Michigan University, 1005 Moore Hall, Kalamazoo, MI 49008, telephone (269) 387-2753.

SUPPLEMENTARY INFORMATION: Notice is here given in accordance with the Native American Graves Protection and Repatriation Act (NAGPRA), 25 U.S.C. 3003, of the completion of an inventory of human remains and associated funerary objects in the possession of the Western Michigan University, Anthropology Department, Kalamazoo, MI. The human remains and associated funerary objects were removed from Allegan County, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by Western Michigan University, Department of Anthropology, professional staff in consultation with representatives of the Match-e-be-nash-she-wish Band of Pottawatomi Indians of Michigan; Pokagon Band of Potawatomi Indians, Michigan and Indiana; and Saginaw Chippewa Indian Tribe of Michigan. The Match-e-be-nash-she-wish Band of Pottawatomi Indians of Michigan and Saginaw Chippewa Indian Tribe of Michigan have sent the Western Michigan University, Department of Anthropology, letters of support and do not object to disposition of the human remains and associated funerary objects described in this notice to the Pokagon Band of Potawatomi Indians, Michigan and Indiana.

History and Description of the Remains

In 1968, human remains representing a minimum of one individual were removed from Allegan Dam Site, in Valley Township, Allegan County, MI, during an excavation by a Western Michigan University archeological field school under the direction of Dr. Elizabeth B. Garland. The burial consisted of a single individual placed in a semi-flexed position in a deep pit. The human remains were in a poor state of preservation. No known individual was identified. No associated funerary objects are present.

In April 1978, human remains representing a minimum of one individual were removed from the Harrington III Site, in Saugatuck Township, Allegan County, MI. The burial was excavated by Dr. Richard Flanders, an archeologist formerly at Grand Valley State University, Allendale, MI. This individual was placed in a shallow pit in a semi-flexed position. After recovery, the Harrington III burial was sent to Western Michigan University for curation and further study by Dr. Robert Sundick. The human remains represent a male, between 45 and 60 years of age. No known individual was identified. The two associated funerary objects are turtle shells.

Based on skeletal and dental morphology, as well as cultural materials associated with the Harrington II Site (including two ceramic pots that are not part of the museum collection), the site dates to circa A.D. 1000, during the Late Woodland period.

In 1968, human remains representing a minimum of 36 individuals were removed from the Brainerd Ossuary, in Valley Township, Allegan County, MI, during an excavation by Dr. Elizabeth B. Garland through the university's archeological field school. The burials were encountered in a large ossuary pit that measured 11 x 15 feet and extended 5 feet below the ground surface. The skeletal remains were heavily disturbed due to plowing and the effects of previous intrusive pits, which were likely dug by amateurs. After recovery, the remains were transferred to Western Michigan University for further study and curation. No known individuals were identified. The two associated funerary objects are pieces of chipped stone debitage.

The Brainerd Ossuary was dated to the late Middle Woodland period based on a radiocarbon date of A.D. 440 +/− 130 years.

Determinations Made by the Western Michigan University, Department of Anthropology

Officials of the Western Michigan University, Department of Anthropology, have determined that:

• Based on skeletal and dental morphology, and a radiocarbon date obtained from a charcoal sample that dates the Allegan Dam Site to the Upper Mississippian occupation of the Late Woodland period (13th century A.D), the human remains are Native American.

• Based on skeletal and dental morphology, as well as cultural materials associated with the Harrington II Site, the human remains and associated funerary objects are Native American.

• Based on the date of the Brainerd Ossuary, the human remains and associated funerary objects are Native American.

• Pursuant to 25 U.S.C. 3001(2), a relationship of shared group identity cannot be reasonably traced between the Native American human remains and associated funerary objects and any present-day Indian tribe.

• Multiple lines of evidence, including the Chicago Treaty of 1833 and oral tradition, indicate that the land from which the Native American human remains and associated funerary objects were removed is the aboriginal land of the Match-e-be-nash-she-wish Band of Pottawatomi Indians of Michigan; Pokagon Band of Potawatomi Indians, Michigan and Indiana; and Saginaw Chippewa Indian Tribe of Michigan.

• Pursuant to 25 U.S.C. 3001(9), the human remains described in this notice represent the physical remains of 38 individuals of Native American ancestry.

• Pursuant to 25 U.S.C. 3001(3)(A), the four objects described above are reasonably believed to have been placed with or near individual human remains at the time of death or later as part of the death rite or ceremony.

• Pursuant to 43 CFR 10.11(c)(1), the disposition of the human remains is to the Pokagon Band of Potawatomi Indians, Michigan and Indiana.

Additional Requestors and Disposition

Representatives of any Indian tribe that believes itself to be culturally affiliated with the human remains and associated funerary objects or any other Indian tribe that believes it satisfies the criteria in 43 CFR 10.11(c)(1) should contact LouAnn Wurst, Department of Anthropology, Western Michigan University, 1005 Moore Hall, Kalamazoo, MI 49008, telephone (269) 387-2753, before June 13, 2011. Disposition of the human remains and associated funerary objects to the Pokagon Band of Potawatomi Indians, Michigan and Indiana, may proceed after that date if no additional requestors come forward.

The Western Michigan University, Anthropology Department, is responsible for notifying the Match-e-be-nash-she-wish Band of Pottawatomi Indians of Michigan; Pokagon Band of Potawatomi Indians, Michigan and Indiana; and Saginaw Chippewa Indian Tribe of Michigan, that this notice has been published.

Dated: May 9, 2011.
Sherry Hutt,
Manager, National NAGPRA Program.

[FR Doc. 2011-11850 Filed 5-12-11; 8:45 am]

BILLING CODE 4310-50-P